NUCLEAR REGULATORY COMMISSION

[NRC-2013-0230]

Draft Fiscal Years 2014-2018 Strategic Plan

AGENCY: Nuclear Regulatory Commission.

ACTION: Draft NUREG; request for comment.

SUMMARY: The U.S. Nuclear Regulatory Commission (NRC) is requesting comment on draft NUREG-1614, Volume 6, “U.S. Nuclear Regulatory Commission Strategic Plan, Fiscal Years 2014-2018.” The draft Strategic Plan provides the agency's long-term, results-focused goals and objectives and its proposed strategies for achieving them for the planning period. The NRC encourages and welcomes public comments that can help it respond to challenges and shape its strategic direction over the next four years, particularly comments on the plan's goals, objectives, and strategies.

DATES: Submit comments by April 4, 2014. Comments received after this date will be considered if it is practical to do so, but the NRC is only able to ensure consideration of comments received on or before this date.

ADDRESSES: You may submit comments by any of the following methods:

• Federal rulemaking Web site: Go to http://www.regulations.gov and search for Docket ID NRC-2013-0230. Address questions about NRC dockets to Carol Gallagher; telephone: 301-287-3422; email: Carol.Gallagher@nrc.gov. For technical questions, contact the individual listed in the FOR FURTHER INFORMATION CONTACT section of this notice.

• Mail comments to: Cindy Bladey, Chief, Rules, Announcements, and Directives Branch, Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Francine Goldberg, Office of the Executive Director for Operations, U.S. Nuclear Regulatory Commission, Washington, DC, 20555-0001; telephone: 301-415-6921 or email: Francine.Goldberg@nrc.gov.

SUPPLEMENTARY INFORMATION:

I. Accessing Information and Submitting Comments

A. Accessing Information

Please refer to Docket ID NRC-2013-0230 when contacting the NRC about the availability of information for this draft Strategic Plan. You may access publicly-available information related to this action by the following methods:

• Federal Rulemaking Web site: Go to http://www.regulations.gov and search for Docket ID NRC-2013-0230.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft Strategic Plan is available in ADAMS under Accession No. ML13254A234.

• NRC's PDR: You may examine and purchase copies of public documents at the NRC's PDR, Room O1-F21, One White Flint North, 11555 Rockville Pike, Rockville, Maryland, 20852.

• NRC's Public Web site: The NRC's draft Strategic Plan may be viewed online on the NRC's Public Web site on the Documents for Comment Web page at http://www.nrc.gov/public-involve/doc-comment.html#nuregs.

B. Submitting Comments

Please include Docket ID NRC-2013-0230 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In accordance with the Government Performance and Results Modernization Act (GPRAMA) of 2010, agencies are required to submit their strategic plans to Congress the year following the start of a presidential term. The Commission has approved a draft Strategic Plan and is now seeking comments from the public so that the agency may benefit from a wide range of stakeholder input to shape the NRC's strategic direction for the upcoming planning period.

III. Draft Strategic Plan

The draft Strategic Plan describes the agency's mission and its two strategic goals, which, although slightly reworded for clarity and readability, remain fundamentally unchanged from the current plan. The NRC's mission is to license and regulate the Nation's civilian use of radioactive materials to protect the public health and safety, promote the common defense and security, and protect the environment. Its two strategic goals are to ensure the safe use of radioactive materials and the secure use of radioactive materials. New elements of the plan include several strategic objectives with associated strategies and key activities that will be used to achieve the agency's strategic goals.

The draft strategies address the key challenges and external factors the agency will face as the regulatory environment continues to change during the upcoming planning period. Examples include processing license applications involving new technologies, such as small modular reactors and continued implementation of enhancements to improve reactor safety based on insights from the 2011 nuclear accident at Fukushima Dai-ichi. The continued globalization of nuclear technology and the nuclear supply chain is another factor that will affect the NRC, driving the need for increased international engagement on the safe and secure use of radioactive material and the need for new oversight approaches to ensure that foreign components used in U.S. nuclear facilities are in compliance with NRC requirements.

The NRC encourages all interested parties to comment on the draft Strategic Plan, particularly on the plan's goals, objectives, and strategies. Stakeholder feedback will be valuable in helping the Commission develop a final Strategic Plan that has the benefit of the many views of the public and the regulated civilian nuclear industry. The NRC will consider the comments submitted and may use them, as appropriate, in the preparation of the final Strategic Plan; however, the NRC does not anticipate responding to individual comments.

Dated at Rockville, Maryland, this 27th day of February, 2014.
For the Nuclear Regulatory Commission.
Annette L. Vietti-Cook,
Secretary of the Commission.

[FR Doc. 2014-04830 Filed 3-4-14; 8:45 am]

BILLING CODE 7590-01-P